DEPARTMENT OF COMMERCE

National Oceanic and Atmospheric Administration

[I.D. 042104B]

North Pacific Fishery Management Council; Public Meeting

AGENCY: National Marine Fisheries Service (NMFS), National Oceanic and Atmospheric Administration (NOAA), Commerce.

ACTION: Notice of a public committee meeting.

SUMMARY: The North Pacific Fishery Management Council's (Council) Crab Plan Team will meet in Anchorage, AK.

DATES: The meeting will be held on May 18, 2004, from 10 a.m. to 5 p.m. and May 19, 2004, from 9 a.m. to 5 p.m.

ADDRESSES: The meeting will be held at the West Coast International Inn, 3333 W. International Airport Road, Prospect Room, Anchorage, AK 99502.

Council address: North Pacific Fishery Management Council, 605 W. 4th Ave., Suite 306, Anchorage, AK 99501-2252.

FOR FURTHER INFORMATION CONTACT: Diana Stram, North Pacific Fishery Management Council; telephone: 907-271-2809.

SUPPLEMENTARY INFORMATION: The committee's agenda includes the following issues: (1) review and approve agenda; (2) review purpose and products of spring and fall Crab Plan Team meeting; (3) process information requirements for Data Quality Act and National Standard Guidelines; (4) stock assessment and catch data; (5) progress with revising overfishing definitions; (6) update on crab rationalization; and (7) plans for and scheduling summer/fall 2004 meeting.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen, 907-271-2809, at least five business days prior to the meeting date.

Dated: April 22, 2004.
Alan D. Risenhoover,
Acting Director, Office of Sustainable Fisheries, National Marine Fisheries Service.

[FR Doc. E4-942 Filed 4-27-04; 8:45 am]

BILLING CODE 3510-22-S